DEPARTMENT OF THE INTERIOR

National Park Service

[NPS-WASO-NAGPRA-NPS0028453; PPWOCRADN0-PCU00RP14.R50000]

Notice of Intent To Repatriate Cultural Items: New York State Museum, Albany, NY

AGENCY: National Park Service, Interior.

ACTION: Notice.

SUMMARY: The New York State Museum, in consultation with the appropriate Indian Tribes or Native Hawaiian organizations, has determined that the cultural items listed in this notice meet the definition of sacred objects. Lineal descendants or representatives of any Indian Tribe or Native Hawaiian organization not identified in this notice that wish to claim these cultural items should submit a written request to the New York State Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the New York State Museum at the address in this notice by September 4, 2019.

ADDRESSES: Lisa Anderson, New York State Museum, 3049 Cultural Education Center, Albany, NY 12230, telephone (518) 486-2020, email lisa.anderson@nysed.gov.

SUPPLEMENTARY INFORMATION: Notice is here given in accordance with the Native American Graves Protection and Repatriation Act (NAGPRA), 25 U.S.C. 3005, of the intent to repatriate cultural items under the control of the New York State Museum, Albany, NY, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1898, the New York State Museum acquired five cultural items from members of the Cayuga Nation. The five sacred objects are wooden medicine masks donated by Harriet Maxwell Converse of New York City, NY. Museum records indicate the medicine masks are culturally affiliated with the Cayuga Nation. One of the medicine faces was reportedly made in Canada about 1779 (E-37047). The other four masks have no additional provenience information (E-37027, E-37045, E-37050, E-37603).

Traditional religious leaders of the Cayuga Nation have identified these five medicine faces as being needed for the practice of traditional Native American religions by present-day adherents. Museum documentation, supported by oral evidence presented during consultation with members of the Haudenosaunee Standing Committee on Burial Rules and Regulations, indicates that these medicine faces are culturally affiliated with the Cayuga Nation.

Determinations Made by the New York State Museum

Officials of the New York State Museum have determined that:

• Pursuant to 25 U.S.C. 3001(3)(C), the five cultural items described above are specific ceremonial objects needed by traditional Native American religious leaders for the practice of traditional Native American religions by their present-day adherents.

• Pursuant to 25 U.S.C. 3001(2), there is a relationship of shared group identity that can be reasonably traced between the sacred objects and the Cayuga Nation.

Additional Requestors and Disposition

Lineal descendants or representatives of any Indian Tribe or Native Hawaiian organization not identified in this notice that wish to claim these cultural items should submit a written request with information in support of the claim to Lisa Anderson, New York State Museum, 3049 Cultural Education Center, Albany, NY 12230 telephone (518) 486-2020, email lisa.anderson@nysed.gov, by September 4, 2019. After that date, if no additional claimants have come forward, transfer of control of the sacred objects to the Cayuga Nation may proceed.

The New York State Museum is responsible for notifying the Cayuga Nation; Oneida Nation (previously listed as the Oneida Tribe of Indians of Wisconsin); Oneida Indian Nation (previously listed as the Oneida Nation of New York); Onondaga Nation; Saint Regis Mohawk Tribe (previously listed as the St. Regis Band of Mohawk Indians of New York); Seneca Nation of Indians (previously listed as the Seneca Nation of New York); Seneca-Cayuga Nation (previously listed as the Seneca-Cayuga Tribe of Oklahoma); Tonawanda Band of Seneca (previously listed as the Tonawanda Band of Seneca Indians of New York); and the Tuscarora Nation that this notice has been published.

Dated: July 16, 2019.
Melanie O'Brien,
Manager, National NAGPRA Program.

[FR Doc. 2019-16678 Filed 8-2-19; 8:45 am]

BILLING CODE 4312-52-P